DEPARTMENT OF ENERGY

Federal Energy Regulatory Commission

[Docket No. RP01-177-000]

Cove Point LNG Limited Partnership; Notice of Tariff Filing

December 12, 2000.

Take notice that on December 6, 2000, Cove Point LNG Limited Partnership (Cove Point) tendered for filing as part of its FERC Gas Tariff, Second Revised Volume No. 1, First Revised Sheet No. 112, with an effective date of February 1, 2001.

Cove Point states that the purpose of the instant filing is to propose a new tariff provision which will permit Cove Point, under certain limited circumstances, to reserve capacity for future expansion projects. Cove Point states that its proposed tariff revisions are consistent with current Commission policy that pipelines may reserve certain capacity for future expansion projects in a not unduly discriminatory manner.

Any person desiring to be heard or to protest said filing should file a motion to intervene or a protest with the Federal Energy Regulatory Commission, 888 First Street, NE., Washington, DC 20426, in accordance with Sections 385.214 of 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-32080 Filed 12-15-00; 8:45 am]

BILLING CODE 6717-01-M